DEPARTMENT OF DEFENSE

Department of the Air Force

Notice of Public Meetings for the Barry M. Goldwater Range, Arizona

AGENCY: United States Air Force and United States Marine Corps.

ACTION: Notice.

SUMMARY: This notice is being issued pursuant to Section 3031(b)(5)(B) of the Military Lands Withdrawal Act (MLWA) of 1999 (Pub. L. 106-65, Title XXX) regarding opportunities for public review and comment on a Public Report that is being prepared in association with an update of the Integrated Natural Resources Management Plan (INRMP) for the Barry M. Goldwater Range (BMGR), Arizona.

The process to update the 2007 BMGR INRMP is being initiated by the U.S. Air Force and U.S. Marine Corps. The Sikes Act (16 U.S.C. 670a) provides that INRMPs must be reviewed as to their operation and effect not less often than every five years. The BMGR INRMP will be updated in accordance with this Sikes Act provision and will be prepared in coordination with the Director of the U.S. Fish and Wildlife Service and the Director of Arizona Game and Fish Department. In accordance with the MLWA and in support of the INRMP update, the U.S. Air Force and U.S. Marine Corps are also preparing a Public Report to summarize current military use of the BMGR, changes in military use of the lands since the 2007 INRMP was implemented, and efforts related to the management of natural and cultural resources and environmental remediation of the lands during the previous five years.

Two public meetings are scheduled to familiarize the public with progress made in the management of natural resources since completion of the 2007 INRMP, to seek review and input on the Public Report to guide development of the INRMP update, and to share information about projects planned to support natural resource management during the next five years. The meeting scheduled for 17 July 2012 in Yuma, Arizona will focus on BMGR West and a second meeting focused on BMGR East is scheduled for 18 July 2012 in Gila Bend, Arizona. Public meetings will be announced in the following Arizona newspapers: Yuma Sun, West Valley View (Glendale), the Gila Bend Sun, Arizona Daily Star (Tucson), and the Ajo Copper News. Federal, state, and local agencies; Native American tribes; and interested individuals are encouraged to take these opportunities to participate in the INRMP update process.

DATES AND ADDRESSES: Public meetings are scheduled for 17 and 18 July, 2012 for BMGR West and BMGR East, respectively. Both meetings will be an open house format with presentation boards and project team members available to answer questions.

17 July 2012, 6:00-8:00 p.m., Yuma County Main Library, Conference Room, 2951 S. 21st Drive, Yuma, Arizona,

18 July 2012, 6:00-8:00 p.m., Gila Bend Resource Center, Training Room, 303 E. Pima St., Gila Bend, Arizona.

Submitting Comments: You may submit comments related to the updating of the BMGR INRMP to: Beth Defend, URS Corporation, 7720 N. 16th Street, Suite 100, Phoenix, AZ 85020, bmgr@urs.com.

FOR FURTHER INFORMATION CONTACT: BMGR East, Daniel Garcia, Luke Air Force Base, (623) 856-4265 or daniel.garcia@luke.af.mil BMGR West, Ron Pearce, Marine Corps Air Station Yuma, (928) 269-3401 or ronald.pearce@usmc.mil. The Public Report can be accessed from the following Web sites: http://www.luke.af.mil/library/factsheets/factsheet.asp?id=5028 http://www.yuma.usmc.mil/range/.

SUPPLEMENTARY INFORMATION: The BMGR was established in 1941 and continues to be used by the U.S. Air Force and U.S. Marine Corps, and other Department of Defense components, primarily to train military aircrews to fly air combat missions. Encompassing more than 1.7 million acres of land in southwest Arizona, the BMGR is also nationally significant as a critical component in the largest remaining tract of relatively unfragmented and undisturbed Sonoran Desert in the United States.

In October 1999, Congress reconfirmed the nation's continuing need for the BMGR by passing the MLWA. This Act extended authorization for the BMGR as a military reservation for 25 years until 2024 and provided that the Secretaries of the Air Force, Navy, and Interior were to jointly prepare an INRMP for the range. As prescribed by the MLWA, the INRMP must include provisions for the proper management and protection of the natural and cultural resources of the BMGR, and for sustainable use by the public of such resources to the extent consistent with the military purposes of the range.

The MLWA assigned natural and cultural resource management authority for the BMGR to the Secretaries of the Air Force and the Navy for the east and west range lands, respectively. Thereafter, an Environmental Impact Statement (EIS) was prepared—in coordination with the U.S. Fish and Wildlife Service (led by the Cabeza Prieta National Wildlife Refuge), Arizona Game and Fish Department, and Bureau of Land Management (BLM)—to evaluate alternative methods to manage the natural resources and, where applicable, public use of the BMGR. The management decisions made based on the EIS and Record of Decision were used to develop the INRMP that was finalized in March 2007.

The MLWA also provided that the INRMP be prepared and implemented in accordance with the Sikes Act. The Sikes Act sets forth the Nation's resource management policies and guidance for U.S. military installations and requires the preparation of INRMPs for all installations with significant natural resources. The Sikes Act provides that the Secretary of Defense shall carry out a program to provide for the conservation and rehabilitation of natural resources that is consistent with the use of military installations to ensure the preparedness of the Armed Forces. The INRMP programs are to provide for (a) the conservation and rehabilitation of natural resources on military installations; (b) the sustainable multipurpose use of the resources, which shall include hunting, fishing, trapping and non-consumptive uses; and (c) public access to facilitate use, subject to safety requirements and military security.

The MLWA also mandates preparation of the aforementioned Public Report concurrent with each INRMP review cycle. The Public Report includes a summary of current military use of the lands, any changes in military use of the lands since the previous report, and efforts related to the management of natural and cultural resources and environmental remediation of the lands during the previous five years. Interested members of the public are invited to review and comment on the report. Public meetings are planned to facilitate that review and provide a forum for public input. The Public Report is available for review on the following Web sites: http://www.luke.af.mil/library/factsheets/factsheet.asp?id=5028 and http://www.yuma.usmc.mil/range/.

Henry Williams Jr.,
Acting Air Force Federal Register Liaison Officer.

[FR Doc. 2012-15349 Filed 6-22-12; 8:45 am]

BILLING CODE 5001-10-P